DEPARTMENT OF TRANSPORTATION

Maritime Administration

[Docket No. MARAD—2013 0136]

Agency Requests for Renewal of a Previously Approved Information Collection(s): Supplementary Training Course Application

AGENCY: Maritime Administration, DOT.

ACTION: Notice and request for comments

SUMMARY: The Department of Transportation (DOT) invites public comments about our intention to request the Office of Management and Budget (OMB) approval to renew an information collection. The information collection is necessary for eligibility assessment, enrollment, attendance verification and recordation. Without this information, the courses would not be documented for future reference by the program or individual student. We are required to publish this notice in the Federal Register by the Paperwork Reduction Act of 1995, Public Law 104-13.

DATES: Written comments should be submitted by January 28, 2014.

ADDRESSES: You may submit comments identified by Docket No. MARAD-2013-0136 through one of the following methods:

• Federal eRulemaking Portal: http://www.regulations.gov. Follow the online instructions for submitting comments.

• Mail or Hand Delivery: Docket Management Facility, U.S. Department of Transportation, 1200 New Jersey Avenue SE., West Building, Room W12-140, Washington, DC 20590, between 9 a.m. and 5 p.m., Monday through Friday, except on Federal holidays.

• Fax: 1-202-493-2251.

FOR FURTHER INFORMATION CONTACT: Michael Romstadt, Training Instructor (Firefighting), Maritime Administration, 1200 New Jersey Avenue SE., W28-302, Washington, DC 20590; Telephone: (419) 259-6362 or email: Michael.Romstadt@dot.gov. Copies of this collection can also be obtained from that office.

SUPPLEMENTARY INFORMATION:

OMB Control Number: 2133-0030.

Title: Supplementary Training Course Application.

Form Numbers: MA-823

Type of Review: Renewal of an information collection.

Background: 46 U.S.C. Section 51703 (2007) states that, “the Secretary of Transportation may provide additional training on maritime subjects to supplement other training opportunities and make the training available to the personnel of the merchant mariners of the United States and to individuals preparing for a career in the merchant marine of the United States.” Also, the U.S. Coast Guard requires a fire-fighting certificate for U.S. merchant marine officers. This collection provides the information necessary for the maritime schools to plan their course offerings and for applicants to complete their certificate requirements.

Respondents: U.S. Merchant Marine Seamen, both officers and unlicensed personnel, and other U.S. citizens employed in other areas of waterborne commerce.

Number of Respondents: 500.

Frequency: Annually.

Number of Responses: 500.

Total Annual Burden: 25 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: The Paperwork Reduction Act of 1995; 44 U.S.C. Chapter 35, as amended; and 49 CFR 1.93.

Dated: November 21, 2013.
Julie P. Agarwal,
Secretary, Maritime Administration.

[FR Doc. 2013-28637 Filed 11-27-13; 8:45 am]

BILLING CODE 4910-81-P